DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of May 18, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 11, 2015.
Roy E. Wright,
Deputy Associate Administrator for Mitigation, Department of Homeland Security, Federal Emergency Management Agency.

Community | Community map repository address
Spencer County, Indiana, and Incorporated Areas
Docket No.: FEMA-B-1292
City of Rockport | City Hall, 426 Main Street, Rockport, IN 47635.
Town of Grandview | Town Hall, 316 Main Street, Grandview, IN 47615.
Town of Richland | Town of Richland, 4259 North State Road 161, Richland, IN 47634.
Town of Santa Claus | Town Hall, 90 North Holiday Boulevard, Santa Claus, IN 47579.
Unincorporated Areas of Spencer County | Spencer County Plan Commission, Spencer County Courthouse, 200 Main Street, Room 12, Rockport, IN 47635.
Jones County, Iowa, and Incorporated Areas
Docket No.: FEMA-B-1356
City of Monitcello | City Hall, 200 East 1st Street, Monticello, IA 52310.
Unincorporated Areas of Jones County | Jones County Engineer's Office, 19501 Highway 64, Anamosa, IA 52205.
Wilkin County, Minnesota, and Incorporated Areas
Docket No.: FEMA-B-1348
City of Breckenridge | City Hall, 420 Nebraska Avenue, Breckenridge, MN 56520.
City of Campbell | Post Office, 510 5th Street, Campbell, MN 56522.
City of Doran | City Hall, 1106 4th Street, Doran, MN 56522.
City of Foxhome | City Hall, 303 Main Street, Foxhome, MN 56543.
City of Kent | City Hall, 204 Main Street, Kent, MN 56553.
City of Nashua | Fur House, 217 County Road 19, Nashua, MN 56565.
City of Wolverton | City Hall, 301 King of Trails Parkway, Wolverton, MN 56594.
Unincorporated Areas of Wilkin County | Wilkin County Courthouse, 300 5th Street South, Breckenridge, MN 56520.
Sweet Grass County, Montana, and Incorporated Areas
Docket No.: FEMA-B-1404
City of Big Timber | Sweet Grass County Annex, Sweet Grass County Planning Office, 515 Hooper Street, Big Timber, MT 59011.
Unincorporated Areas of Sweet Grass County | Sweet Grass County Annex, Sweet Grass County Planning Office, 515 Hooper Street, Big Timber, MT 59011.
Accomack County, Virginia, and Incorporated Areas
Docket No.: FEMA-B-1401
Town of Belle Haven | Town Clerk's Office, 2240 Belle Haven Road, Belle Haven, VA 23306.
Town of Chincoteague | Town Hall, 6150 Community Drive, Chincoteague, VA 23336.
Town of Onancock | Town Hall, 15 North Street, Onancock, VA 23417.
Town of Saxis | Town Hall, 8334 Freeschool Lane, Saxis, VA 23427.
Town of Tangier | Town Hall, 4301 Joshua Thomas Lane, Tangier, VA 23440.
Town of Wachapreague | Town Hall, 6 Main Street, Wachapreague, VA 23480.
Unincorporated Areas of Accomack County | Accomack County Department of Building, Planning and Zoning, 23296 Courthouse Avenue, Room 105, Accomac, VA 23301.
Middlesex County, Virginia, and Incorporated Areas
Docket No.: FEMA-B-1401
Town of Urbanna | Town Office, 45 Cross Street, Urbanna, VA 23175.
Unincorporated Areas of Middlesex County | Middlesex County Building Department, 877 General Puller Highway, Saluda, VA 23149.
Pacific County, Washington, and Incorporated Areas
Docket No.: FEMA-B-1404
City of Ilwaco | City Hall, 120 1st Avenue North, Ilwaco, WA 98624.
City of Long Beach | City Hall, 115 Bolstad Avenue West, Long Beach, WA 98631.
City of Raymond | City Hall, 230 2nd Street, Raymond, WA 98577.
City of South Bend | City Hall, 1102 West 1st Street, South Bend, WA 98586.
Shoalwater Bay Indian Tribe | Tribal Center, 2373 Old Tokeland Road, Tokeland, WA 98590.
Unincorporated Areas of Pacific County | Emergency Management Office, 300 Memorial Drive, South Bend, WA 98586.
Natrona County, Wyoming, and Incorporated Areas
Docket No.: FEMA-B-1353
City of Casper | City Hall, 200 North David Street, Casper, WY 82601.
Town of Evansville | Town Hall, 235 Curtis Street, Evansville, WY 82635.
Town of Mills | Town Hall, 704 4th Street, Mills, WY 82644.
Unincorporated Areas of Natrona County | Natrona County Board of Commissioners, 200 North Center Street, Casper, WY 82601.

[FR Doc. 2015-05065 Filed 3-4-15; 8:45 am]

BILLING CODE 9110-12-P